DEPARTMENT OF DEFENSE

Department of the Army, Corps of Engineers

Notice of Intent To Prepare a Draft Environmental Impact Statement (DEIS)/Draft Environmental Impact Report (DEIR)/Feasibility Study for Coyote Creek at Rock Springs Flood Damage Reduction Study, City of San Jose, Santa Clara County, CA

AGENCY: U.S. Army Corps of Engineers, DoD.

ACTION: Notice of intent.

SUMMARY: The purpose of this EIS/EIR is to identify and evaluate the environmental impacts of alternatives developed to provide flood damage reduction on Coyote Creek in the Rock Springs area in San Jose, California, as authorized by Section 205 of the 1948 Flood Control Act (33 U.S.C. 701s), as amended. To fulfill the requirements of Section 102(2)(c) of the National Environmental Policy Act, the Corps of Engineers has determined that the proposed action may have a significant effect on the quality of the human environment, and therefore, requires the preparation of an Environmental Impact Statement. This document will also serve as the Environmental Impact Report (EIR) under the California Environmental Quality Act (CEQA). Lead agency under CEQA is the Santa Clara Valley Water District. This environmental assessment is required by the National Environmental Policy Act of 1969, as amended (Pub. L. 91-190). Section 102(2)(A) requires Federal agencies to: “Utilize a systematic interdisciplinary approach, which will insure the integrated use of the natural and social sciences and the environmental design arts in planning and decision making, which may have an impact on man's environment.”

FOR FURTHER INFORMATION CONTACT: Written comments and questions regarding the scoping process or preparation of the EIS/EIR/FS may be directed to Tamara Terry, U.S. Army Corps of Engineers, San Francisco District, 333 Market Street, 717S, Seventh Floor, San Francisco, CA 94105-2197, (415) 977-8545, Fax: (415) 977-8695. E-mail: tterry@spd.usace.army.mil.

SUPPLEMENTARY INFORMATION:

1. Authority: Pursuant to Section 102(2)(c) of the National Environmental Policy Act. of 1969, as implemented by the Council on Environmental Quality Act (CEQA) regulations (40 CFR Parts 1500-1508), the California Environmental Quality Act (CEQA), the Department of the Army and Santa Clara Valley Water District hereby give notice of intent to prepare a joint Environmental Impact Statement/Environmental Impact Report/Feasibility Study (EIS/EIR/FS) for the Rock Springs Flood Damage Reduction Project, Santa Clara, California.

2. Comments/Scoping Meetings: Interested parties are requested to express their views concerning the proposed activity. The public is encouraged to provide written comments in addition to or in lieu of, oral comments at the scoping meeting. To be most helpful, scoping comments should clearly describe specific environmental topics or issues, which the commentator believes the document should address. Oral and written comments receive equal consideration. Two workshop-scoping sessions will be held on Thursday, June 29, 2000. The first, from 2:30-4:30 p.m., is intended primarily for local, state, and federal agencies and organizations. The second, from 7-9 p.m. is intended for all interested parties. Both meetings will be held at the Leininger Community Center, 1300 Senter Road, San Jose, California.

3. Availability of EIS/EIR/FS: The Draft EIS/EIR/FS should be available for public review in the spring of 2001.

4. Agencies Supporting Project: The U.S. Army Corps of Engineers and Santa Clara Valley Water District will be the lead agencies in preparing the combined EIS/EIR/FS. The EIS/EIR/FS will provide an analysis supporting both the requirements of NEPA and CEQA in addressing impacts to the environment, which may result from implementation of flood control measures.

5. Purpose and Need for Project: This project is intended to reduce flood damages from high water in Coyote Creek.

6. Study Area Description: The Rock Springs study area encompasses an area bounded by Phelan Avenue, Senter Drive, and Needles Drive, in the Rock Springs area of San Jose, Santa Clara County, California.

7. 1997 Flooding: In 1997, 25 apartment buildings were badly damaged during the January 27, 1997 flood on Coyote Creek, approximately a 15-year event. Water in some buildings was 4 to 5 feet deep.

8. Project Alternatives: a. No Action. This alternative assumes that no flood damage reduction measures, structural or non-structural, will be implemented in the project area by the Federal government or any other entity. Flooding would continue at the same frequency and intensity as it has in the past.

b. Flood Control Alternatives. Preliminary analysis suggests that flood damage reduction alternatives to be studied for the Coyote Creek at Rock Springs area would include both structural and non-structural measures. Structural alternatives identified at this time are an embankment levee and floodwall, or a setback levee.

9. Other Environmental Review and Consultation Requirements: The DEIS/EIR will be used as the primary information document to secure compliance the Clean Water Act Section 404(b)(1) guidelines, the Fish and Wildlife Coordination Act, and the Endangered Species Act. The DEIS/EIR will be used by the local sponsor to meet its responsibilities under the California Environmental Quality Act, and used by the San Francisco Regional Water Quality Control Board to meet its responsibilities under the Porter-Cologne Act. The DEIS/EIR will be used by the “trustee agency” reviews by the State of California.

10. DEIS/EIR Availability: The DEIS/EIR will be available to the public in the Spring of 2001.

Peter T. Grass,
LTC, EN, Commanding.

[FR Doc. 00-13577 Filed 5-30-00; 8:45 am]

BILLING CODE 3710-19-U